DEPARTMENT OF COMMERCE

International Trade Administration

[A-570-124]

Certain Vertical Shaft Engines Between 99cc and Up to 225cc, and Parts Thereof, From the People's Republic of China: Postponement of Final Determination of Sales at Less Than Fair Value Investigation

AGENCY: Enforcement and Compliance, International Trade Administration, Department of Commerce.

SUMMARY: The Department of Commerce (Commerce) is postponing the deadline for issuing the final determination in the less-than-fair-value (LTFV) investigation of certain vertical shaft engines between 99cc and up to 225cc, and parts thereof (small vertical engines) from the People's Republic of China (China) until March 5, 2021, and is extending the provisional measures from a four-month period to a period of not more than six months.

DATES: Applicable November 9, 2020.

FOR FURTHER INFORMATION CONTACT: Whitley Herndon or Benjamin A. Luberda, AD/CVD Operations, Office II, Enforcement and Compliance, International Trade Administration, U.S. Department of Commerce, 1401 Constitution Avenue NW, Washington, DC 20230; telephone: (202) 482-6274 or (202) 482-2185, respectively.

SUPPLEMENTARY INFORMATION:

Background

On April 7, 2020, Commerce initiated an LTFV investigation of imports of small vertical engines from China.¹ The period of investigation is July 1, 2019 through December 31, 2019. On October 21, 2020, Commerce published its Preliminary Determination in this LTFV investigation of small vertical engines from China.²

¹ See Certain Vertical Shaft Engines Between 99cc and Up to 225cc, and Parts Thereof from the People's Republic of China: Initiation of Less-Than-Fair-Value Investigation, 85 FR 20670 (April 14, 2020).

² See Certain Vertical Shaft Engines Between 99cc and Up To 225cc, and Parts Thereof, from the People's Republic of China: Preliminary Affirmative Determination of Sales at Less Than Fair Value, and Preliminary Affirmative Determination of Critical Circumstances, in Part, 85 FR 66932 (October 21, 2020) (Preliminary Determination).

Postponement of Final Determination

Section 735(a)(2) of the Tariff Act of 1930, as amended (the Act), and 19 CFR 351.210(b)(2) provide that a final determination may be postponed until not later than 135 days after the date of the publication of the preliminary determination if, in the event of an affirmative preliminary determination, a request for such postponement is made by the exporters or producers who account for a significant proportion of exports of the subject merchandise, or in the event of a negative preliminary determination, a request for such postponement is made by the petitioners. Further, 19 CFR 351.210(e)(2) requires that such postponement requests by exporters be accompanied by a request for extension of provisional measures from a four-month period to a period of not more than six months, in accordance with section 733(d) of the Act.

On October 16, 2020, and October 19, 2020, Chongqing Kohler Engines Ltd. and its ultimate parent company, Kohler Co. (collectively, Kohler), and Chongqing Zongshen General Power Machine Co., Ltd. (Chongqing Zongshen) and its affiliates (collectively, the Zongshen Companies), the mandatory respondents in this investigation, requested that Commerce postpone the deadline for the final determination until no later than 135 days from the publication of the Preliminary Determination and extend the application of the provisional measures from a four-month period to a period of not more than six months.³ In accordance with section 735(a)(2)(A) of the Act and 19 CFR 351.210(b)(2)(ii), because: (1) The preliminary determination was affirmative; (2) the request was made by the exporters and producers who account for a significant proportion of exports of the subject merchandise; and (3) no compelling reasons for denial exist, Commerce is postponing the final determination until no later than 135 days after the date of the publication of the Preliminary Determination and extending the provisional measures from a four-month period to a period of not more than six months. Accordingly, Commerce will issue its final determination no later than March 5, 2021.

³ See Kohler's Letter, “Certain Vertical Shaft Engines Between 99cc and 225 from the People's Republic of China: Request to Postpone Final Determination,” dated October 16, 2020; and the Zongshen Companies' Letter, “Certain Vertical Shaft Engines Between 99cc and Up To 225cc, and Parts Thereof, from China; AD Investigation; Zongshen Request for Postponement of Final Determination and Extension of Provisional Measures Period,” dated October 19, 2020.

This notice is issued and published pursuant to 19 CFR 351.210(g).

Dated: November 3, 2020.
Jeffrey I. Kessler,
Assistant Secretary for Enforcement and Compliance.

[FR Doc. 2020-24833 Filed 11-6-20; 8:45 am]

BILLING CODE 3510-DS-P